DEPARTMENT OF HOMELAND SECURITY

U.S. Customs and Border Protection

Automated Commercial Environment (ACE) Export Manifest for Vessel Cargo Test: Renewal of Test

AGENCY: U.S. Customs and Border Protection; Department of Homeland Security.

ACTION: General notice.

SUMMARY: This notice announces that U.S. Customs and Border Protection (CBP) is renewing the Automated Commercial Environment (ACE) Export Manifest for Vessel Cargo Test, a National Customs Automation Program (NCAP) test concerning ACE export manifest capability.

DATES: The voluntary pilot initially began on August 20, 2015, as corrected on October 20, 2015, and modified and extended on August 14, 2017, and further extended on April 27, 2022. This renewal is effective May 31, 2024. The renewed test will run for an additional two years from the date of publication of this notice in the Federal Register.

ADDRESSES: Applications for new participants in the ACE Export Manifest for Vessel Cargo Test must be submitted via email to CBP Export Manifest at cbpexportmanifest@cbp.dhs.gov. In the subject line of the email, please write “ACE Export Manifest for Vessel Cargo Test Application”. Applications will be accepted at any time during the test period. Written comments concerning program, policy, and technical issues may also be submitted via email to CBP Export Manifest at cbpexportmanifest@cbp.dhs.gov. In the subject line of the email, please write “Comment on ACE Export Manifest for Vessel Cargo Test”. Comments may be submitted at any time during the test period.

FOR FURTHER INFORMATION CONTACT: Thomas J. Pagano, Branch Chief, or David Garcia, Program Manager, Outbound Enforcement and Policy Branch, Office of Field Operations, CBP, via email at cbpexportmanifest@cbp.dhs.gov, or by telephone, 202-344-3277.

SUPPLEMENTARY INFORMATION:

I. Background

Under the current regulatory requirements, the complete manifest is generally not required to be submitted until after the departure of the vessel. See sections 4.75, 4.76, and 4.84 of title 19 of the Code of Federal Regulations (19 CFR 4.75, 4.76 and 4.84). The Automated Commercial Environment (ACE) Export Manifest for Vessel Cargo Test is a voluntary test in which participants agree to submit export manifest data to U.S. Customs and Border Protection (CBP) electronically at least twenty-four hours prior to loading of the cargo onto the vessel in preparation for departure from the United States. The ACE Export Manifest for Vessel Cargo Test is authorized under 19 CFR 101.9(b), which provides for the testing of National Customs Automation Program (NCAP) programs or procedures.

The ACE Export Manifest for Vessel Cargo Test examines the functionality of filing export manifest data for vessel cargo electronically in ACE. ACE creates a single automated export processing platform for certain export manifest, commodity, licensing, export control, and export targeting transactions. This will reduce costs for CBP, partner government agencies, and the trade community, as well as improve facilitation of export shipments through the supply chain.

The ACE Export Manifest for Vessel Cargo Test also assesses the feasibility of requiring the manifest information to be filed electronically in ACE within a specified time before the cargo is loaded on the vessel. This capability will enhance CBP's ability to calculate the risk and effectively identify and inspect shipments prior to the loading of cargo in order to facilitate compliance with U.S. export laws.

CBP announced the procedures and criteria related to participation in the ACE Export Manifest for Vessel Cargo Test in a notice published in the Federal Register on August 20, 2015 (80 FR 50644). This test was originally scheduled to run for approximately two years. A correction to the notice, regarding the technical capability requirements, was published on October 20, 2015 (80 FR 63575). On August 14, 2017, CBP extended the test period (82 FR 37890). At that time, CBP also modified the original notice to make certain data elements optional and opened the test to accept additional applications for all parties who met the eligibility requirements. CBP further renewed the test for an additional two years on April 27, 2022 (87 FR25036). Through this notice, CBP is renewing the test again.

The data elements, unless noted otherwise, are mandatory. Data elements which are mandatory must be provided to CBP for every shipment. Data elements which are marked “conditional” must be provided to CBP only if the particular information pertains to the cargo. Data elements which are marked “optional” may be provided to CBP but are not required to be completed. The data elements are set forth below:

(1) Mode of Transportation (containerized vessel cargo or noncontainerized vessel cargo)

(2) Name of Ship or Vessel

(3) Nationality of Ship

(4) Name of Master (optional)

(5) Port of Loading

(6) Port of Discharge

(7) Bill of Lading Number (Master and House)

(8) Bill of Lading Type (Master, House, Simple or Sub)

(9) Number of House Bills of Lading (optional)

(10) Marks and Numbers (conditional)

(11) Container Numbers (conditional)

(12) Seal Numbers (conditional)

(13) Number and Kind of Packages

(14) Description of Goods

(15) Gross Weight (lb. or kg.) or Measurements (per HTSUS)

(16) Shipper name and address

(17) Consignee name and address

(18) Notify Party name and address (conditional)

(19) Country of Ultimate Destination

(20) In-bond Number (conditional)

(21) Internal Transaction Number (ITN) or AES Exemption Statement (per shipment)

(22) Split Shipment Indicator (Yes/No) (optional)

(23) Portion of Split Shipment (e.g., 1 of 10, 4 of 10, 5 of 10, Final, etc.) (optional)

(24) Hazmat Indicator (Yes/No)

(25) UN Number (conditional) (If the hazmat indicator is yes, then UN (for United Nations Number) or NA (North American Number) and the corresponding four-digit identification number assigned to the hazardous material must be provided.)

(26) Chemical Abstract Service (CAS) Registry Number (conditional)

(27) Vehicle Identification Number (VIN) or Product Identification Number (conditional) (For shipments of used vehicles, the VIN must be reported, or for used vehicles that do not have a VIN, the Product Identification Number must be reported.)

For further details on the background and procedures regarding this test, please refer to the August 20, 2015 notice, as corrected by the October 20, 2015 notice, and the August 14, 2017 extension and modification.

II. Renewal of the ACE Export Manifest for Vessel Cargo Test Period

CBP will renew the test for another two years to continue evaluating the ACE Export Manifest for Vessel Cargo Test. This will assist CBP in determining whether electronic submission of manifests will allow for improvements in the functionality and capabilities at the departure level. The renewed test will run for two additional years from the date of publication.

III. Applicability of Initial Test Notice

All provisions in the August 20, 2015 notice, as corrected by the October 20, 2015 notice, and in the August 14, 2017 modification and extension remain applicable, subject to the further extension of the time period provided in this renewal.

IV. Paperwork Reduction Act

In accordance with the Paperwork Reduction Act of 1995 (Pub. L. 104-13, 44 U.S.C. 3507), an agency may not conduct, and a person is not required to respond to, a collection of information unless the collection of information displays a valid control number assigned by the Office of Management and Budget (OMB). The collections of information in this NCAP test have been approved by OMB in accordance with the requirements of the Paperwork Reduction Act and assigned OMB control number 1651-0001.

Diane J. Sabatino,
(A) Executive Assistant Commissioner, Office of Field Operations, U.S. Customs and Border Protection.

[FR Doc. 2024-11950 Filed 5-30-24; 8:45 am]

BILLING CODE 9111-14-P